DEPARTMENT OF HOMELAND SECURITY

Coast Guard

[CGD17-05-0010]

Annual Certification of Cook Inlet Regional Citizen's Advisory Council (CIRCAC)

AGENCY: Coast Guard, DHS.

ACTION: Notice of recertification.

SUMMARY: Under the Oil Terminal and Tanker Environmental Oversight Act of 1990, the Coast Guard may certify on an annual basis an alternative voluntary advisory group in lieu of a regional citizens’ advisory council for Cook Inlet, Alaska. This certification allows the advisory group to monitor the activities of terminal facilities and crude oil tankers under the Cook Inlet Program established by the statute. The purpose of this notice is to inform the public that the Coast Guard has recertified the alternative voluntary advisory group for Cook Inlet, Alaska.

DATES: This recertification is effective for the period from September 1, 2005 through August 31, 2006.

FOR FURTHER INFORMATION CONTACT: For general information regarding the CIRCAC or viewing material submitted to the docket, contact Rick Janelle, Seventeenth Coast Guard District, Marine Safety Division, (907) 463-2808.

SUPPLEMENTARY INFORMATION: In section 5002 of the Oil Pollution Act of 1990, cited as the Oil Terminal and Tanker Environmental Oversight and Monitoring Act of 1990 (the Act), Congress sought to foster the long-term partnership among industry, government, and local communities in overseeing compliance with the environmental concerns in the operation of terminal facilities and crude-oil tankers. Subsection 5002(o) permits an alternative voluntary advisory group to represent to communities and interests in the vicinity of the terminal facilities in Cook Inlet (CI), in lieu of a council of the type specified in subsection 5002(d), if certain conditions are met.

The Act requires that the group enter into a contract to ensure annual funding, and that it receive annual certification by the President to the effect that it fosters the general goals and purposes of the Act, and is broadly representative of the communities and interests in the vicinity of the terminal facilities and Cook Inlet. Accordingly, in 1991, the President granted certification to the Cook Inlet Regional Citizen's Advisory Council (CIRCAC). The authority to certify alternative advisory groups was subsequently delegated to the Commandant of the Coast Guard and redelegated to the Commander, Seventeenth Coast Guard District.

On June 28, 2005, the Coast Guard published a notice of availability of an application for recertification submitted by the Cook Inlet Regional Citizens’ Advisory Council in the Federal Register (70 FR 37103) and we requested comments. Eight comments were received.

Discussion of Comments

Of the comments received, all were supportive of recertification and noted the positive efforts, good communication, and broad representation of Cook Inlet communities by CIRCAC as it carries out its responsibilities as intended by the Act.

The Coast Guard received one letter of public comment from the Cook Inlet Keeper, a citizen-based, non-profit group dedicated to protecting Alaska's Cook Inlet watershed. This comment supported the recertification of the CIRCAC and also encouraged the Coast Guard to investigate ways to ensure the CIRCAC has a more reliable, long-term funding stream. Although the Coast Guard understands the Cook Inlet Keeper's concern, the Coast Guard is limited to determining whether the CIRCAC has entered into a contract for funding in accordance with the requirements of 33 U.S.C. 2732(o), and reviewing the expenditure of those funds.

Upon review of the comments received regarding the CIRCAC's performance during the past year and the information provided by the RCAC in their annual report and recertification package, the Coast Guard finds the CIRCAC meets the criteria established under the Oil Pollution Act, and that recertification in accordance with the Act is appropriate.

Recertification

By letter dated 12 August, 2005 the Commander, Seventeenth Coast Guard, certified that the CIRCAC qualifies as an alternative voluntary advisory group under 33 U.S.C. 2732(o). This recertification lasts through August 31, 2006.

Dated: August 15, 2005.
James C. Olson,
Rear Admiral, U.S. Coast Guard, Commander, Seventeenth Coast Guard District.

[FR Doc. 05-17093 Filed 8-26-05; 8:45 am]

BILLING CODE 4910-15-P